FEDERAL MARITIME COMMISSION

[Docket No. 16-15]

World Imports, Ltd., World Imports Chicago, LLC, and World Imports South, LLC v. OEC Group New York; Notice of Filing of Complaint and Assignment

Notice is given that a complaint has been filed with the Federal Maritime Commission (Commission) by World Imports, Ltd., World Imports Chicago, LLC, and World Imports South, LLC (collectively “World Imports”), hereinafter “Complainants,” against OEC Group New York (“OEC”), hereinafter “Respondent.” Complainants state that they are corporations “formerly engaged in the business of buying furniture wholesale and selling it to retail distributors.” Complainant alleges that Respondent is a New York corporation and a “freight forwarder/logistics provider” providing non-vessel-operating common carrier services.

Complainants allege that Respondent “was in possession of multiple landed shipments of merchandise for delivery” to Complainants but failed to release those goods on the basis of freight charges owed to Respondent for goods Respondent had “previously delivered and unconditionally released.” Further Complainant alleges that Respondent has “transmogrified what would have been an unsecured claim in World Imports' bankruptcy proceedings into a secured maritime lien.” Complainant alleges that Respondent has violated section 10(d)(1) of the Shipping Act, 46 U.S.C. 41102(c), which provides that a common carrier “may not fail to establish, observe, and enforce just and reasonable regulations and practices relating to or connected with receiving, handling, storing, or delivering property.”

Complainant requests the following relief: “an order be made commanding OEC to: (1) Cease and desist from the aforesaid violations; (2) establish and put in force such practices as the Commission determines to be lawful and reasonable; (3) to pay to World Imports by way of reparations for the unlawful conduct herein described the sum of $172,075.50, with interest and attorney's fees or such other sum as the Commission may determine to be proper as an award of reparation; (4) to reimburse World Imports any sum it may be ordered to pay to OEC as a secured creditor in World Imports' bankruptcy case, insofar as such sums reflect charges, fees, or the like demanded in violation of Section (10)(d)(1); and (5) that such other and further order or orders be made as the Commission determines to be proper in the premises.”

The full text of the complaint can be found in the Commission's Electronic Reading Room at www.fmc.gov/16-15.

This proceeding has been assigned to the Office of Administrative Law Judges. The initial decision of the presiding officer in this proceeding shall be issued by July 14, 2017, and the final decision of the Commission shall be issued by January 29, 2018.

Karen V. Gregory,
Secretary.

[FR Doc. 2016-17088 Filed 7-19-16; 8:45 am]

BILLING CODE 6731-AA-P